OFFICE OF PERSONNEL MANAGEMENT

Submission for Review: Survivor Annuity Election for a Spouse, RI 20-63; Cover Letter Giving Information About the Cost To Elect Less Than the Maximum Survivor Annuity, RI 20-116; Cover Letter Giving Information About the Cost To Elect the Maximum Survivor Annuity, RI 20-117

AGENCY: U.S. Office of Personnel Management.

ACTION: 60-Day Notice and request for comments.

SUMMARY: The Retirement Services, Office of Personnel Management (OPM), is offering the general public and other Federal agencies the opportunity to comment on a revised information collection request (ICR 3206-0174) regarding these related forms: Survivor Annuity Election for a Spouse (RI 20-63), Cover Letter Giving Information About The Cost to Elect Less Than the Maximum Survivor Annuity (RI 20-116), and Cover Letter Giving Information About The Cost to Elect the Maximum Survivor Annuity (RI 20-117). As required by the Paperwork Reduction Act of 1995 (Pub. L. 104-13, 44 U.S.C. chapter 35), and as amended by the Clinger-Cohen Act (Pub. L. 104-106), OPM is soliciting comments for this collection. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until April 30, 2013. This process is conducted in accordance with 5 CFR 1320.1.

ADDRESSES: Interested persons are invited to submit written comments on the proposed information collection to U.S. Office of Personnel Management, Retirement Services, Union Square Room 370, 1900 E Street NW., Washington, DC 20415-3500, Attention: Alberta Butler or sent via email to Alberta.Butler@opm.gov.

FOR FURTHER INFORMATION CONTACT: A copy of this ICR, with applicable supporting documentation, may be obtained by contacting the Retirement Services Publications Team, Office of Personnel Management, 1900 E Street NW., Room 4332, Washington, DC 20415, Attention: Cyrus S. Benson or sent via email to Cyrus.Benson@opm.gov or faxed to (202) 606-0910.

SUPPLEMENTARY INFORMATION: RI 20-63 is used by annuitants to elect a reduced annuity with a survivor annuity for their spouse. RI 20-116 is a cover letter for RI 20-63 giving information about the cost to elect less than the maximum survivor annuity. This letter is used to supply the information that may have been requested by the annuitant about the cost of electing less than the maximum survivor annuity. RI 20-117 is a cover letter for RI 20-63 giving information about the cost to elect the maximum survivor annuity. This letter may be used to ask for more information.

Analysis

Agency: Retirement Operations, Retirement Services, Office of Personnel Management.

Title: Survivor Annuity Election for a Spouse/Cover Letter Giving Information About the Cost To Elect Less Than the Maximum Survivor Annuity/Cover Letter Giving Information About the Cost To Elect the Maximum Survivor Annuity.

OMB Number: 3206-0174.

Frequency: On occasion.

Affected Public: Individuals or Households.

Number of Respondents: RI 20-63= 2,200; RI 20-116 & RI 20-117 = 200.

Estimated Time per Respondent: 55 minutes.

Total Burden Hours: 1,834.

U.S. Office of Personnel Management.
John Berry,
Director.

[FR Doc. 2013-04726 Filed 2-28-13; 8:45 am]

BILLING CODE 6325-38-P